DEPARTMENT OF THE INTERIOR

Fish and Wildlife Service

[FWS-R4-ES-2017-N148; FXES11140400000-178-FF04E00000]

Endangered and Threatened Wildlife; Incidental Take Permit Application, Habitat Conservation Plan for Skink Species, and Environmental Assessment for Roadway Relocation in Polk County, FL

AGENCY: Fish and Wildlife Service, Interior.

ACTION: Notice of availability; request for comments.

SUMMARY: Under the Endangered Species Act of 1973, as amended (ESA), we, the Fish and Wildlife Service (Service), announce the receipt and availability of a proposed habitat conservation plan and environmental assessment related to an application for a permit associated with relocation of a 1.3-mile segment of Dude Ranch Road (project) located in Polk County, Florida. If issued, the permit would authorize take of the threatened sand skink and blue-tailed mole skink incidental to project construction. We invite the public to comment on these documents.

DATES: To ensure consideration, please send your written comments by March 5, 2018.

ADDRESSES:

Obtaining Documents: Documents are available for public inspection by appointment during regular business hours at either of the following locations:

• Atlanta Regional Office, Ecological Services, U.S. Fish and Wildlife Service, 1875 Century Boulevard, Atlanta, GA 30345.

• South Florida Ecological Services Office, U.S. Fish and Wildlife Service, 1339 20th Street, Vero Beach, FL 32960.

Submitting Comments: Submit comments by one of the following methods. Please reference TE21091C-0 in all comments. For additional guidance, please see Public Comments under SUPPLEMENTARY INFORMATION.

U.S. mail: You may mail comments to the Fish and Wildlife Service's Atlanta Regional Office.

Hand-delivery: You may hand-deliver comments to the Atlanta or the Vero Beach Offices.

Email: You may email comments to david_dell@fws.gov. Please include your name and email address in your email message. If you do not receive an email confirmation from us that we have received your email message, contact us directly at either telephone number in FOR FURTHER INFORMATION CONTACT.

FOR FURTHER INFORMATION CONTACT: Mr. David Dell, Regional HCP Coordinator, at the Atlanta Regional Office (see ADDRESSES); or Mr. John Wrublik, Project Manager, at the South Florida Ecological Services Office (see ADDRESSES); telephone: 772-469-4282. If you use a telecommunications device for the deaf (TDD), please call the Federal Relay Service at 800-877-8339.

SUPPLEMENTARY INFORMATION: Under the Endangered Species Act of 1973, as amended (16 U.S.C. 1531 et seq., ESA), we, the U.S. Fish and Wildlife Service, announce the receipt and availability of a proposed habitat conservation plan (HCP), accompanying incidental take permit (ITP) application, and environmental assessment (EA) related to an application from Cemex Construction Materials Florida, LLC (applicant) for a permit to take sand skink (Neoseps reynoldsi) and blue-tailed mole skink (Eumeces egregius lividus) (covered species), incidental to the relocation of a 1.3-mile segment of Dude Ranch Road in Polk County, Florida. We invite the public to comment on these documents.

The applicants' proposed HCP describes the mitigation and minimization measures proposed to address the impacts to the covered species. Per the National Environmental Policy Act (42 U.S.C. 4321 et seq.; NEPA), the EA analyzes the take of the covered species and impact to the environment. The applicant requests a 5-year ITP under section 10(a)(1)(B) of the ESA, as amended (16 U.S.C. 1531 et seq.).

Environmental Assessment

The EA assesses the likely environmental impacts associated with the implementation of the activities, including the environmental consequences of the no-action alternative, relocation of the roadway segment outside of the proposed footprint, and the proposed action. The proposed action alternative is issuance of the ITP and implementation of the HCP as submitted by the applicant. The applicant anticipates destroying approximately 12.1 acres of occupied sand skink and blue-tailed mole skink habitat incidental to relocation and construction of a 1.3-mile section of Dude Ranch Road in Polk County, Florida. The existing paved two-lane county roadway is being relocated, per permission of Polk County, to allow for sand mining within the existing Dude Ranch Road footprint and lands adjacent to this footprint. The applicant indicates that sand mining in this area would not be financially feasible without relocation of the roadway. Polk County requires the applicant to relocate the roadway segment to maintain access for local residents and the public to the areas adjacent to the project site.

Habitat Conservation Plan

The HCP includes measures to minimize and mitigate impacts to the sand skink and the blue-tailed mole skink resulting from the roadway relocation. To minimize impacts to these species and their habitat, the footprint of the relocated roadway was reduced to the greatest extent practicable. The mitigation proposed by the applicant consists of the purchase of 24.2 credits (equaling 12.1 acres of skink habitat) from the Scrub Conservation Bank (SCB) in Highlands County, Florida. The SCB, which is a Service approved conservation bank, will preserve and manage skink habitat in perpetuity.

Public Comments

We specifically request information, views, and opinions from the public on our proposed Federal action, including identification of any other aspects of or impacts to the human environment not already identified in the EA prepared pursuant to the NEPA regulations at 40 CFR 1506.6. Further, we specifically solicit information regarding the adequacy of the HCP per 50 CFR parts 13 and 17.

Before including your address, phone number, email address, or other personal identifying information in your comment, you should be aware that your entire comment—including your personal identifying information—may be made publicly available at any time. While you can ask us in your comment to withhold your personal identifying information from public review, we cannot guarantee that we will be able to do so.

Covered Area

Sand skinks and blue-tailed mole skinks historically occurred within xeric uplands throughout the sandy ridges of central Florida. The area encompassed by the ITP application and HCP consists of 12.1 acres of privately owned lands currently leased by the applicant in Polk County, Florida.

Next Steps

We will evaluate the ITP application, including the HCP, and any comments we receive to determine whether the application meets the requirements of section 10(a)(1)(B) of the ESA. We will also evaluate whether a section 10(a)(1)(B) ITP should be issued, as well as conduct an intra-Service consultation pursuant to section 7 of the ESA. We will use the results of this consultation and the above findings in our final analysis to determine whether to issue the ITP. If we determine that the requirements are met, we will issue the ITP number TE21091C-0 for the incidental take of the sand skink and the blue-tailed mole skink to the applicant.

Authority

We provide this notice under section 10 of the ESA (16 U.S.C. 1531 et seq.) and NEPA regulations (40 CFR 1506.6).

Mike Oetker,
Acting Regional Director.

[FR Doc. 2018-02015 Filed 1-31-18; 8:45 am]

BILLING CODE P